DEPARTMENT OF TRANSPORTATION

Federal Highway Administration

Environmental Impact Statement: Teton County, WY

AGENCY: Federal Highway Administration (FHWA), DOT.

ACTION: Change to August, 25, 2000 Notice of intent.

SUMMARY: The FHWA is issuing this notice to advise the public that the Notice of Intent (NOI) issued on August 25, 2000 has been modified. The August, 2000 NOI advised that an Environmental Impact Statement would be prepared in accordance with the National Environmental Policy Act for the proposed highway reconstruction in Teton County, Wyoming. The project limits were comprised of three segments and identified as beginning approximately 6.1 miles south of Jackson along U.S. highway 191/26/89/189 then running south approximately 7.2 miles to Hoback Junction. At Hoback Junction the project branches to the southwest, along U.S. 26/89, and to the east along U.S. 191/189. The Hoback Junction segment, along U.S. 26/89, is approximately 0.6 miles in length and includes the Snake River Bridge. The east segment, along U.S. 191/189, is approximately 2.9 miles in length.

Due to the independent utility of the three project segments, project limits for the EIS have been modified to include only the 7.2 mile segment of U.S. 26/89/189/191 from Hoback Junction to 6.1 miles south of Jackson (Jackson South) as described under supplementary information.

FOR FURTHER INFORMATION CONTACT: Mr. Lee D. Potter, FHWA Wyoming Division, 2617 E. Lincoln Way, Suite D, Cheyenne, WY 82001, (307) 772-2004, extension 146.

SUPPLEMENTARY INFORMATION: The FHWA, in cooperation with Wyoming Department of Transportation (WYDOT), hereby give notice that they intend to prepare an Environmental Impact Statement for the Jackson South Segment (MP 141.3-148.6). The termini for this segment were deemed to have independent utility and logical termini because the alternatives under consideration will not require additional improvements or modification to the recently completed five-lane section south of Jackson or restrict consideration of alternatives at Hoback Junction. The Jackson South Segment primarily addresses travel demand, safety, and roadway deficiency needs, and includes construction of two Snake River crossings, two landslide areas, potential archaeological impacts and potential wetland impacts. The proposed alternatives will tie into the recently completed five-lane section south of Jackson, and will follow essentially the existing roadway alignment.

FHWA and WYDOT have solicited public input throughout the EIS process. Notice of future public meetings and public hearing will continue to be given through various forums providing the time and place of the meeting along with other relevant information. The Draft EIS will be available for public and agency review and comment prior to the public hearing.

Authority: 23 U.S.C. 315; 49 CFR 1.48.

Dated: September 11, 2007.
Philip E. Miller,
Division Administrator.

[FR Doc. E7-18233 Filed 9-14-07; 8:45 am]

BILLING CODE 4910-22-P